DEPARTMENT OF TRANSPORTATION

Federal Aviation Administration

Approval of the Noise Compatibility Program for the Kansas City International Airport, Kansas City, MO

AGENCY: Federal Aviation Administration, DOT.

ACTION: Notice.

SUMMARY: The Federal Aviation Administration (FAA) announces its findings on the Noise Compatibility Program (NCP) submitted by the Kansas City Aviation Department for the Kansas City International Airport under the provisions of 49 U.S.C. 47501 et seq. (formerly the Aviation Safety and Noise Abatement Act, hereinafter referred to as “the Act”) and 14 Code of Federal Regulations (CFR) Part 150 (hereinafter referred to as “Part 150”). On March 20, 2009, the FAA determined that the Noise Exposure Maps (NEM) submitted by the Kansas City Aviation Department under Part 150 were in compliance with applicable requirements. On September 14, 2009, the FAA approved the Kansas City International Airport noise compatibility program. All but two of the recommendations of the program were approved. No program elements relating to new or revised flight procedures for noise abatement were proposed by the airport operator.

DATES: The effective date of the FAA's approval of the Noise Compatibility Program for Kansas City International Airport is September 14, 2009.

FOR FURTHER INFORMATION CONTACT: Todd Madison, 901 Locust, Kansas City, Missouri, 64106-2325, todd.madison@faa.gov, (816) 329-2640. Documents reflecting this FAA action may be reviewed at this same location.

SUPPLEMENTARY INFORMATION: This notice announces that the FAA has given its overall approval to the Noise Compatibility Program for Kansas City International Airport, effective September 14, 2009.

Under section 47504 of the Act, an airport operator who has previously submitted a Noise Exposure Map may submit to the FAA a Noise Compatibility Program which sets forth the measures taken or proposed by the airport operator for the reduction of existing non-compatible land uses and prevention of additional non-compatible land uses within the area covered by the Noise Exposure Maps. The Act requires such programs to be developed in consultation with interested and affected parties including local communities, government agencies, airport users, and FAA personnel.

Each airport noise compatibility program developed in accordance with Part 150 is a local program, not a Federal program. The FAA does not substitute its judgment for that of the airport proprietor with respect to which measures should be recommended for action. The FAA's approval or disapproval of Part 150 program recommendations is measured according to the standards expressed in Part 150 and the Act and is limited to the following determinations:

a. The Noise Compatibility Program was developed in accordance with the provisions and procedures of Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in Part 150, section 150.5. Approval is not a determination concerning the acceptability of land uses under Federal, state, or local law. Approval does not by itself constitute an FAA implementing action. A request for Federal action or approval to implement specific noise compatibility measures may be required. Prior to an FAA decision on a request to implement the action, an environmental review of the proposed action may be required. Approval does not constitute a commitment by the FAA to financially assist in the implementation of the program nor a determination that all measures covered by the program are eligible for grant-in-aid funding from the FAA under applicable law contained in Title 49 U.S.C. Where federal funding is sought, requests for project grants must be submitted to the FAA Regional Office in Kansas City, Missouri.

The Kansas City International Airport study contains a proposed Noise Compatibility Program comprised of actions designed for phased implementation by airport management and adjacent jurisdictions from March 6, 2009, beyond the year 2013. It was requested that the FAA evaluate and approve this material as a Noise Compatibility Program as described in section 47504 of the Act. The FAA began its review of the program on March 20, 2009, and was required by a provision of the Act to approve or disapprove the program within 180 days (other than the use of new or modified flight procedures for noise control). Failure to approve or disapprove such program within the 180-day period shall be deemed to be an approval of such program.

The submitted program contained eighteen proposed actions for noise abatement, land use planning and program management on and off the airport. The FAA completed its review and determined that the procedural and substantive requirements of the Act and Part 150 have been satisfied. The overall program was approved by the FAA, effective September 14, 2009.

Outright approval was granted for fourteen specific program measures. Two Noise Abatement Measures were approved by the FAA as voluntary measures only when weather and air traffic conditions permit. These procedures appear to apply to all aircraft at all times and are general “good-neighbor” guidance to pilots of these aircraft types. Approval of specific language for inclusion or amendment to FAA tower procedures is subject to separate FAA approval, and implementation requires an environmental analysis. Noise Abatement Measure One (NAM-1) is an informal preferential runway use program to favor north flow. Noise Abatement Measure Two (NAM-2) is a nighttime (10 p.m. to 6 a.m.) informal preferential runway use program involving landings on Runway 1L and 19L and takeoffs on Runways 1R and 19R.

Seven Land Use Management Measures were approved by the FAA. Land Use Management Measure Four (LUMM-4) was approved to expand the KCI General Development and Land Use Plan to include land south of Barry Road (City of Kansas City action). Land Use Management Measure Eight (LUMM-8) was approved to rezone land acquired by Kansas City Aviation Department to GP-8, airport and conservation (City of Kansas City action). Land Use Management Measure Twenty (LUMM-20) was approved to establish Airport Compatibility Overlay Districts with five tiered land use management zones within Kansas City (City of Kansas City action). Land Use Management Measure Twenty-one (LUMM-21) was approved to establish Airport Compatibility Overlay District with three tiered land use management zones within unincorporated Platte County (Platte County action). Land Use Management Measure Twenty-two (LUMM-22) was approved to establish Airport Compatibility Overlay Districts with land use management zones within Platte City (Platte City action). Land Use Management Measure Twenty-three (LUMM-23) was approved to acquire portions of four agriculturally-used parcels containing approximately 400 acres of vacant land located within the 2013 NCP 65 Day-Night Average Sound Level (DNL) contour and located on the north side of Interstate-29 (Kansas City Aviation Department action). Land Use Management Measure Twenty-four (LUMM-24) was approved to acquire one property of approximately 17 acres surrounded by airport property (Kansas City Aviation Department action). In the FAA's approval of the preceding Land Use Management Measures, the FAA noted the following: The local governments have the authority to implement this measure; The Federal government has no authority to control local land uses; This approval is limited to potential noncompatible land uses within the DNL 65 dB and higher noise contours; and, The local jurisdictions have the authority to pursue proposed land use controls for areas below the 65 DNL noise contour.

Two Land Use Management Measures were disapproved by the FAA. Land Use Management Measure Twenty-five (LUMM-25) was disapproved to acquire one parcel of approximately 60 acres lying within that area subject to 65 DNL for the combined north and south flow traffic conditions and located between the south boundary of the airport property and the north boundary of Tiffany Springs Park and west of NW Hampton Road (Kansas City Aviation Department action). LUMM-25 was disapproved for purposes of Part 150 because the parcel of land is not within the average annual day 65 DNL on either the existing 2008 NEM or the 2013 forecast NEM. Land Use Management Measure Twenty-six (LUMM-26) was disapproved to encourage Kansas City Parks and Recreation to acquire approximately 143 acres as shown for inclusion as part of the Tiffany Springs Park Master Plan (Kansas City Aviation Department action). LUMM-26 was disapproved for purposes of Part 150 because the parcel of land is not within the average annual day 65 DNL on either the existing 2008 NEM or the 2013 forecast NEM.

Seven Program Management Measures were approved by the FAA. Program Management Measure One (PMM-1) was approved to maintain a system for receiving and responding to noise complaints (Kansas City Aviation Department). Program Management Measure Four (PMM-4) was approved to designate airport staff position as liaison contact for noise and land use coordination with planning agencies (Kansas City Aviation Department). Program Management Measure Five (PMM-5) was approved to designate planning staff position as liaison contact for noise and land use coordination with Airport (Kansas City Planning Department, Platte County Planning, and Platte City Planning). Program Management Measure Six (PMM-6) was approved to implement a review process for development proposals within the land use compatibility zones approved within any jurisdiction (Kansas City Aviation Department, Kansas City Planning Department, Platte County Planning, and Platte City Planning). Program Management Measure Seven (PMM-7) was approved to initiate an update of the Noise Exposure Maps every five years or when equivalent (daytime + ten times nighttime) operations grow more than 17 percent above 2006 levels (Kansas City Aviation Department). Program Management Measure Eight (PMM-8) was approved to initiate an update of the Noise Compatibility Program every ten years or when/if equivalent (daytime + ten times nighttime) operations in any single year exceed that year's forecasts by more than 40 percent (Kansas City Aviation Department), and the FAA noted in its approval that in addition to the Part 150 regulation's requirement to update NEMs when noise significantly increases, Part 150 also requires NEM amendments if noise significantly decreases (14 CFR 150.21(d)). Program Management Measure Nine (PMM-9) was approved to establish an environmental information page on the airport web Site, and the approval was limited to Part 150 information because Environmental Assessment and Environmental Impact Statement information is not approvable for purposes of Part 150.

These determinations are set forth in detail in a Record of Approval signed by Jim A. Johnson, FAA Central Region Airports Division Manager, on September 14, 2009. The Record of Approval, as well as other evaluation materials and the documents comprising the submittal, are available for review at the FAA office listed above and at the administrative offices of the Kansas City Aviation Department. The Record of Approval also will be available on-line at: http://www.faa.gov/airports/environmental/airport_noise/part_150/states/.

Issued in Kansas City, Missouri, on September 15, 2009.
Jim A. Johnson,
Manager, FAA Central Region Airports Division.

[FR Doc. E9-23106 Filed 9-23-09; 8:45 am]

BILLING CODE P